DEPARTMENT OF COMMERCE

National Oceanic and Atmospheric Administration

Membership of the NOAA Performance Review Board

AGENCY: National Oceanic and Atmospheric Administration (NOAA), Department of Commerce (DOC).

ACTION: Notice of Membership of the NOAA Performance Review Board (PRB).

SUMMARY: In accordance with 5 U.S.C. 4314(c)(4), NOAA announces the appointment of members who will serve on the NOAA's PRB. The NOAA PRB is responsible for reviewing performance appraisals and ratings of Senior Executive Service (SES) Senior Level, Scientific and Professional members and making written recommendations to the appointing authority on retention and compensation matters, including performance-based pay adjustments and awarding of bonuses. The appointment of new members to the NOAA PRB will be for a period of two years.

DATES: The effective date of service of the appointees to the NOAA PRB is September 30, 2013.

FOR FURTHER INFORMATION CONTACT: Christine Nalli, Director, Executive Resources, Workforce Management Office, NOAA, 1305 East-West Highway, Silver Spring, Maryland 20910, (301) 713-6301.

SUPPLEMENTARY INFORMATION: The names and positions of the primary and alternate members for the Fiscal Year 2013 NOAA PRB are set forth below:

Holly A. Bamford, Chair | Assistant Administrator for Ocean Services and Coastal Zone Management, National Ocean Service.
Mark S. Paese, Co-Chair | Deputy Assistant Administrator, National Environmental Satellite, Data and Information Service.
Jon P. Alexander | Director, Finance Office/Comptroller, Office of the Chief Financial Officer.
Russell F. Smith III | Deputy Assistant Secretary for International Fisheries, Office of the Under Secretary for Oceans and Atmosphere.
Tyra D. Smith | Deputy Director, Office of Human Resources Management, U.S. Department of Commerce.

Alternates:
Ciaran M. Clayton | Director of Communications, Office of the Under Secretary for Oceans and Atmosphere.
Steven S. Fine, Ph.D | Deputy Assistant Administrator for Laboratories and Cooperative Institutes and Director, Air Resources Laboratory, Office of Oceanic and Atmospheric Research.
Edward C. Cyr, Ph.D | Director, Office of Science and Technology, National Marine Fisheries Service.

Dated: September 4, 2013.
Kathryn D. Sullivan,
Acting Under Secretary of Commerce for Oceans and Atmosphere.

[FR Doc. 2013-22538 Filed 9-16-13; 8:45 am]

BILLING CODE 3510-12-P